DEPARTMENT OF STATE

[Public Notice 8915]

Advisory Committee on International Economic Policy; Notice of Open Meeting

The Advisory Committee on International Economic Policy (ACIEP) will meet from 2:00 p.m. to 3:30 p.m., on Tuesday, October 28, 2014, in Room 4477 of the Harry S. Truman Building at the U.S. Department of State, 2201 C Street NW., Washington, DC. The meeting will be hosted by the Assistant Secretary of State for Economic and Business Affairs, Charles H. Rivkin, and Committee Chair Ted Kassinger. The ACIEP serves the U.S. government in a solely advisory capacity, and provides advice concerning topics in international economic policy. The October 28 meeting topic will be the U.S.-Africa trade and investment relationship.

This meeting is open to public participation, though seating is limited. Entry to the building is controlled; to obtain pre-clearance for entry, members of the public planning to attend should provide their name, professional affiliation, valid government-issued ID number (i.e., U.S. Government ID, U.S. military ID, passport [country], or driver's license [state]), date of birth, and citizenship, to Gregory Maggio by email (MaggioGF@state.gov), fax: (202) 647-5953, or telephone (202) 647-2231. This information must be provided no later than Tuesday, October 21. All persons wishing to attend the meeting must use the 21st Street entrance (not the “jogger's entrance” or the C Street entrance) of the State Department. Although, there is currently construction at the 21st Street entrance, it is still open. Because of escorting requirements, non-U.S. government attendees should plan to arrive no later than 15 minutes before the meeting begins. Requests for reasonable accommodation should be made to Gregory Maggio before Tuesday, October 21. Requests made after that date will be considered, but might not be possible to fulfill.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

If you have questions, please contact Gregory Maggio, Office of Economic Policy Analysis and Public Diplomacy, Bureau of Economic and Business Affairs, at tel: (202) 647-2231 or MaggioGF@state.gov.

Dated: October 8, 2014.
Gregory F. Maggio,
Designated Federal Officer, U.S. Department of State.

[FR Doc. 2014-24529 Filed 10-14-14; 8:45 am]

BILLING CODE 4710-07-P